DEPARTMENT OF HEALTH AND HUMAN SERVICES

National Institutes of Health

National Institute on Alcohol Abuse and Alcoholism; Amended Notice of Meeting

Notice is hereby given of a change in the meeting of the National Institute on Alcohol Abuse and Alcoholism Special Emphasis Panel, April 27, 2007, 1 p.m. to April 27, 2007, 3 p.m., National Institutes of Health, 5635 Fishers Lane, Bethesda, MD 20892 which was published in the Federal Register on April 23, 2007, FR #07-2037.

The meeting will be held on 4/26/2007 from 2-3 p.m. The meeting is closed to the public.

Dated: April 26, 2007.
Jennifer Spaeth,
Director, Office of Federal Advisory Committee Policy.

[FR Doc. 07-2192 Filed 5-3-07; 8:45 am]

BILLING CODE 4140-01-M